DEPARTMENT OF COMMERCE

National Oceanic and Atmospheric Administration

RIN 0648-XC591

North Pacific Fishery Management Council; Public Meeting

AGENCY: National Marine Fisheries Service (NMFS), National Oceanic and Atmospheric Administration (NOAA), Commerce.

ACTION: Notice of a public workshop.

SUMMARY: The North Pacific Fishery Management Council (Council) will host a public workshop on considerations of conservation, management, and policy in spatial management of catch limits.

DATES: The workshop will be held on April 16, 2013, from 9 a.m. to 5 p.m.

ADDRESSES: The workshop will be held at NMFS Alaska Fishery Science Center, Oceanographer Seminar Room, Building 5, Seattle WA.

Council address: North Pacific Fishery Management Council, 605 W. 4th Ave., Suite 306, Anchorage, AK 99501-2252.

FOR FURTHER INFORMATION CONTACT: Jane DiCosimo, Council staff; telephone: (907) 271-2809.

SUPPLEMENTARY INFORMATION: The workshop objectives and agenda can be found here: https://www.alaskafisheries.noaa.gov/npfmc/PDFdocuments/meetings/SpatialMgtWkshop413.pdf. Interested parties also may participate in the workshop via Webex. Details will be posted on the Council Web site.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: March 25, 2013.
Tracey L. Thompson,
Acting Deputy Director, Office of Sustainable Fisheries, National Marine Fisheries Service.

[FR Doc. 2013-07186 Filed 3-27-13; 8:45 am]

BILLING CODE 3510-22-P